NATIONAL AERONAUTICS AND SPACE ADMINISTRATION

Notice of Information Collection

AGENCY: National Aeronautics and Space Administration (NASA).

NOTICE: (14-049)

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: Interested persons are invited to submit written comments on the proposed information collection to the Office of Information and Regulatory Affairs, Office of Management and Budget, 725 17th Street NW., Washington, DC 20503. Attention: Desk Officer for NASA.

FOR FURTHER INFORMATION CONTACT: Requests for additional information or copies of the information collection instrument(s) and instructions should be directed to Frances Teel, NASA Clearance Officer, NASA Headquarters, 300 E Street SW., JF0000, Washington, DC 20546.

SUPPLEMENTARY INFORMATION:

I. Abstract

The information submitted by recipients is an annual report of Government-owned in the possession of Educational or Nonprofit institutions holding NASA grants. In addition the annual report, a property report may also be required at the end of the grant, or on the occurrence of certain events. The collected information is used by NASA to effectively maintain an appropriate internal control system for equipment and property provided or acquired under grants and cooperative agreements with institutions of higher education and other nonprofit organizations, and to comply with statutory requirements. This information collection was previously titled NASA Inventory Report: Property Management & Control, Grants. The title was changed to include applicability to nonprofit entities.

II. Method of Collection

NASA is participating in Federal efforts to extend the use of information technology to more Government processes via Internet.

III. Data

Title: Property Inventory Report—Grants with Educational and Nonprofit Entities.

OMB Number: 2700-0047.

Type of review: Reinstatement with Change/Previously Approved Information Collection.

Affected Public: Educational institutions and Not-for-profit institutions.

Estimated Number of Respondents: 255.

Estimated Time per Response: 2 hours per submission, and 8 hours of annual recordkeeping.

Estimated Total Annual Burden Hours: 2014 hours.

Estimated Total Annual Cost: $78,104.60.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Frances Teel,
NASA PRA Clearance Officer.

[FR Doc. 2014-13720 Filed 6-13-14; 8:45 am]

BILLING CODE 7510-13-P